DEPARTMENT OF ENERGY

U.S. Energy Information Administration

Proposed Agency Information Collection

AGENCY: U.S. Energy Information Administration (EIA), Department of Energy (DOE).

ACTION: Agency Information Collection Activities: Proposed Information Collection; Notice and Request for Comments.

SUMMARY: The EIA invites public comment on a proposed collection of information that EIA is developing for submission to the Office of Management and Budget (OMB) pursuant to the Paperwork Reduction Act of 1995. The EIA is soliciting comments on the proposed reinstatement of the Forms EIA-871A-J, “2012 Commercial Buildings Energy Consumption Survey.”

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The Commercial Buildings Energy Consumption Survey (CBECS) has been conducted nine times covering the years 1979, 1983 and 1986 under the name of the “Nonresidential Buildings Energy Consumption Survey,” and years 1989, 1992, 1995, 1999, 2003, and 2007 under the current name, “Commercial Buildings Energy Consumption Survey.” CBECS collects baseline data on energy consumption and expenditures in commercial buildings, and on the energy-related characteristics of those buildings. To obtain this information, interviews are conducted for a sample of commercial buildings representing the 50 States and the District of Columbia. For buildings in the survey, data are collected on the types, amount and cost of energy consumed in the building, how the energy is used, structural characteristics of the buildings, activities conducted inside the buildings that relate to energy use, building ownership and occupancy, energy conservation measures, and energy-using equipment. The information will be collected using computer assisted interviewing for the 2012 CBECS; interviews will be conducted both in-person and by telephone. For those buildings that cannot provide energy consumption data for the building, the data will be obtained in a follow-up survey (historically a mail survey) from the suppliers of electricity, natural gas, fuel oil and/or district heat to the building, after receiving permission from the building owner, manager or tenant. This survey to the energy suppliers is mandatory. The data obtained from the CBECS are available to the public in a variety of EIA electronic tables and reports at http://www.eia.gov/emeu/cbecs. Public use files that have been screened to protect the identity of the individual respondents are also available electronically at the above web address. Selected data from the surveys are also published in the Annual Energy Review.

DATES: Comments regarding this proposed information collection must be received on or before May 29, 2012. If you anticipate difficulty in submitting comments within that period, contact the person listed in ADDRESSES below as soon as possible.

ADDRESSES: Send comments to Joelle Michaels. To ensure receipt of the comments by the due date, submission by email is recommended (joelle.michaels@eia.gov). Comments may also be submitted by mail to Joelle Michaels, Survey Manager, EI-22, Forrestal Building, U.S. Department of Energy, Washington, DC 20585. Alternatively, Ms. Michaels may be contacted by telephone at (202) 586-8952.

FOR FURTHER INFORMATION CONTACT: Requests for additional information or copies of the forms and instructions should be directed to Ms. Michaels at the contact information given above.

SUPPLEMENTARY INFORMATION: This information collection contains:

(1) OMB No. 1905-0145.

(2) Information Collection Request Title: EIA-871A-J, “Commercial Building Energy Consumption Survey”.

(3) Type of Request: Reinstatement with change, of a previously approved collection for which approval has discontinued.

(4) Purpose: Need for and proposed use of the information: The EIA-871A-J is used to collect data on energy consumption by commercial buildings and the characteristics of these buildings. The surveys fulfill planning, analyses and decision-making needs of DOE, other Federal agencies, State governments, and the private sector. Respondents are owners/managers of selected commercial buildings and their energy suppliers. Response obligations are Voluntary (buildings) and Mandatory (energy suppliers).

This will be a proposed reinstatement of a previously approved collection and three-year clearance request to OMB. The content of the 2012 CBECS will be largely unchanged from the 2007 CBECS. The sampling frame, which was redesigned for the 2003 CBECS, will be updated to account for new construction since 2003.

The EIA proposes the following changes to EIA-871A-J, “Commercial Building Energy Consumption Survey”:

a. The sample size for the 2012 CBECS will be 50 percent larger relative to the previous CBECS. The increase in sample size will allow for fewer cell suppressions in published tables, better capture of emerging energy phenomena, lower relative standard errors (RSEs) for key statistics for publishable sample domains, more publishable data for more principal building activities, and more releasable microdata on the public use dataset.

b. Previous CBECS designs have relied on in-person personal interviews for data collection. In 2007, field interviewers needed an average of six contacts to complete a building interview; this process can be time-consuming and costly when done in-person. For 2012, certain respondents (large buildings for which contact information is usually available) will be initially contacted by telephone. All respondents will be given the option to complete the interview by phone. The balance of interviews will remain personal interviews.

c. Water usage questions introduced in the 2007 will be revised and remain in the 2012 CBECS. The Office of Wastewater Management within the U.S. Environmental Protection Agency (EPA) sponsored questions related to water use on the 2007 CBECS. The water-energy use connections are strong, and there is limited data about how water is actually used in commercial buildings. Getting better information on how water is used by commercial buildings is the first step toward understanding commercial water use and the energy impact of that use. The revisions to the water questions are based on extensive review by EIA on the data that were collected in 2007. The proposed changes will make the interview proceed more smoothly through the water questions and result in cleaner data.

d. Based upon a recommendation from the National Academy of Sciences, approximately 200 buildings will receive an “energy audit.” The main objective will be to support a cost and data quality comparison between data collected by field interviewers and professional energy auditors.

e. Based on review of the 2007 CBECS and consultation with data users, refining and reformatting of the Building Questionnaire (Form EIA-871A), Mall Building Questionnaire (EIA-871I) and the Mall Establishment Questionnaire (EIA-871J) is occurring. Some changes have been made already, and more are expected. For the 2012 CBECS questionnaire, wording changes will be made, clarifying definitions will be added, and response categories will be refined. Edits will be added to the survey instrument to help preclude call-backs to respondents.

(5) Annual Estimated Number of Respondents: 5,142.

(6) Annual Estimated Number of Total Responses: 5,142.

(7) Annual Estimated Number of Burden Hours: 3,759.

(8) Annual Estimated Reporting and Recordkeeping Cost Burden: $0. There are no additional costs to respondents associated with the survey other than the costs associated with the burden hours.

Request for Comments

Prospective respondents and other interested parties should comment on the actions discussed in item (4). The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average approximately 55 minutes per interview for the building respondent (Form EIA-871A), 25 minutes per interview for the mall building respondent (Form EIA-871I), 45 minutes per interview for the mall establishment respondent (Form EIA-871A), and approximately 30 minutes per energy supplier response in those cases where the data must be collected from the energy suppliers (Forms EIA-871C-F). The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They will also become a matter of public record.

Statutory Authority: Section 13(b) of the Federal Energy Administration Act of 1974, Public Law 93-275, codified at 15 U.S.C. 772(b).

Issued in Washington, DC, March 22, 2012.
Renee Miller,
Acting Director, Office of Survey Development and Statistical Integration, U.S. Energy Information Administration.

[FR Doc. 2012-7424 Filed 3-27-12; 8:45 am]

BILLING CODE 6450-01-P